ENVIRONMENTAL PROTECTION AGENCY

[EPA-HQ-ORD-2015-0765; FRL-9963-33-ORD]

Request for Nominations of Experts to the EPA Office of Research and Development's Board of Scientific Counselors; Correction

AGENCY: Environmental Protection Agency (EPA).

ACTION: Notice; correction.

SUMMARY: The U.S. Environmental Protection Agency (EPA) published a notice seeking nominations for technical experts to serve on its Board of Scientific Counselors (BOSC), a federal advisory committee to the Office of Research and Development (ORD) in the Federal Register on May 25, 2017. An error in the date for submitting nominations via the BOSC Web site is identified and corrected in this action.

FOR FURTHER INFORMATION CONTACT: Any member of the public needing additional information regarding this Notice and Request for Nominations may contact Mr. Tom Tracy, Office of Science Policy, Office of Research and Development, Mail Code 8104-R, Environmental Protection Agency, 1200 Pennsylvania Avenue NW., Washington, DC 20460; via phone/voice mail at: (202) 564-6518; via fax at: (202) 565-2911; or via email at: tracy.tom@epa.gov. General information concerning the BOSC can be found at the following Web site: https://www.epa.gov/bosc.

Correction

In the notice FR Doc. 2017-10672, published in the issue of Thursday, May 25, 2017 (82 FR 24120), make the following correction:

On page 24121, in the third column, first full paragraph, in the ninth line, remove the date “July 21, 2017” and add in its place the date “June 30, 2017”.

Dated: May 25, 2017.
Nicole Owens,
Director, Office of Regulatory Management Division.

[FR Doc. 2017-11166 Filed 5-25-17; 11:15 am]

BILLING CODE 6560-50-P